FARM CREDIT ADMINISTRATION

Farm Credit Administration Board; Special Meeting

AGENCY: Farm Credit Administration.

SUMMARY: Notice is hereby given, pursuant to the Government in the Sunshine Act (5 U.S.C. 552b(e)(3)), of the special meeting of the Farm Credit Administration Board (Board).

DATE AND TIME: The special meeting of the Board will be held at the offices of the Farm Credit Administration in McLean, Virginia, on February 17, 2000 from 9:00 a.m. until such time as the Board concludes its business.

FOR FURTHER INFORMATION CONTACT: Vivian L. Portis, Secretary to the Farm Credit Administration Board, (703) 883-4025, TDD (703) 883-4444.

ADDRESS: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

• January 27, 2000 (Open and Closed)

B. Reports

• Report on Chartering Actions Since 1/1/2000

C. New Business

1. Regulations

• Farmer Mac Risk-Based Capital [12 CFR Part 650] (Extension of Comment Period)

• Revised Regulatory Performance Plan and Unified Agenda

2. Other

• Request to Charter Mid-Atlantic ACA

* Closed Session

* Session closed-exempt pursuant to 5 U.S.C. 552b(c)(8) and (9).

D. Reports

• OSMO Report

Dated: February 11, 2000.
Vivian L. Portis,
Secretary, Farm Credit Administration Board.

[FR Doc. 00-3773 Filed 2-14-00; 10:48 am]

BILLING CODE 6705-01-P